DEPARTMENT OF TRANSPORTATION

Federal Aviation Administration

14 CFR Part 39

[Docket No. 2002-NM-151-AD; Amendment 39-13766; AD 2004-16-10]

RIN 2120-AA64

Airworthiness Directives; Boeing Model 767-200 and -300 Series Airplanes Equipped With Off-Wing Escape Slides

AGENCY: Federal Aviation Administration, DOT.

ACTION: Final rule.

SUMMARY: This amendment adopts a new airworthiness directive (AD), applicable to certain Boeing Model 767-200 and -300 series airplanes equipped with off-wing escape slides, that requires an inspection of the door-opening actuators for the off-wing slide compartment on the right and left sides of the airplane to determine the actuator cartridge serial number, and corrective actions, if necessary. This action is necessary to prevent the door-opening actuators for the off-wing slide compartment from not firing, which could cause the door to open improperly and prevent the deployment of the off-wing escape slide, leading to the loss of an evacuation route. This action is intended to address the identified unsafe condition.

DATES: Effective September 13, 2004.

The incorporation by reference of a certain publication listed in the regulations is approved by the Director of the Federal Register as of September 13, 2004.

ADDRESSES: The service information referenced in this AD may be obtained from Boeing Commercial Airplanes, P.O. Box 3707, Seattle, Washington 98124-2207; and Universal Propulsion Company, Inc. (formerly OEA Inc.), P.O. Box KK, Highway 12, Explosive Technology Rd., Fairfield, California 94533-0659. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Susan Rosanske, Cabin Safety & Environmental Systems Branch, ANM-150S, FAA, Seattle Aircraft Certification Office, 1601 Lind Avenue, SW., Renton, Washington 98055-4056; telephone (425) 917-6448; fax (425) 917-6590.

SUPPLEMENTARY INFORMATION: A proposal to amend part 39 of the Federal Aviation Regulations (14 CFR part 39) to include an airworthiness directive (AD) that is applicable to all Boeing Model 767-200 and -300 series airplanes was published in the Federal Register on February 6, 2004 (69 FR 5783). That action proposed to require an inspection of the actuators for the off-wing slide compartment door on the right and left sides of the airplane to determine the actuator cartridge serial number, and corrective actions, if necessary.

Comments

Interested persons have been afforded an opportunity to participate in the making of this amendment. Due consideration has been given to the comments received.

Agreement With the Proposed Rule

Several commenters agree with the proposed rule.

Request To Revise Applicability

One commenter requests to revise the applicability of the proposed rule to exclude airplanes that have been converted to freighters without off-wing escape slides and airplanes on which the off-wing escape system has been removed or deactivated. The commenter states that airplanes that have the off-wing escape system removed or deactivated are not subject to the requirements of the proposed rule. The commenter contends that operators will need to request an alternative method of compliance to clarify applicable airplanes and, therefore, will tie up FAA resources. The commenter concludes that clarifying the applicability in the proposed AD will make the rulemaking process less burdensome.

We agree in part with the commenter. We agree that the applicability of the proposed rule should be revised to clarify that airplanes not equipped with off-wing escape systems are not subject to the final rule. We have revised the applicability of the final rule as follows: “Model 767-200 and -300 series airplanes equipped with off-wing escape slides; certificated in any category.” However, we do not agree to revise the applicability to exclude airplanes with deactivated off-wing escape systems. Due to the safety implications and the variety of methods the off-wing escape systems may be deactivated, airplanes with deactivated off-wing escape systems are subject to the final rule. However, paragraph (d) of the final rule provides affected operators the opportunity to apply for approval of an alternative method of compliance if the operator also presents data that justify the request.

Request To Revise Number of Affected Airplanes

One commenter requests that the number of airplanes of the affected design in the worldwide fleet specified in the “Cost Impact” paragraph of the proposed rule be revised. The commenter contends that the affected number of airplanes worldwide is 690 and not 829 as stated in the proposed rule. The commenter notes that the effectivity is line numbers 2 through 920. The commenter states that after excluding Model 767-400ER, 767-300F, and 767-300 airplanes without off-wing escape slides, the resulting number of affected airplanes is approximately 690.

We agree that the number of affected airplanes worldwide in the “Cost Impact” paragraph of the final rule should be revised. However, we do not agree with the specific change requested by the commenter to revise the number to 690. As stated earlier, the applicability of this final rule has been clarified to “Model 767-200 and -300 series airplanes equipped with off-wing escape slides. * * *” The airplane models affected by this final rule have continued to be manufactured and modified since the issuance of the proposed rule. Therefore we revised the number of affected airplanes specified in the “Cost Impact” paragraph of the final rule from 829 to 696 airplanes in the worldwide fleet, and the number of airplanes of U.S. registry from 346 to 297.

Request To Revise Work Hours

The same commenter also requests that the work hours in the “Cost Impact” paragraph of the proposed AD be revised from 6 to 8.75. The commenter points out that Boeing Special Attention Service Bulletin 767-25-0299, dated January 18, 2001, specifies 8 work hours per airplane to accomplish the service bulletin and the commenter estimates 0.75 work hour per airplane to accomplish the cartridge inspection per the OEA Aerospace, Inc. Service Bulletin 5262 (02) SB (NC), dated October 2, 2000.

We do not agree with the commenter's request to revise the work hours in the “Cost Impact” paragraph of the final rule. The 8 work hours specified in the Boeing service bulletin includes “incidental” costs, and the work hours estimated for the OEA service bulletin are for an “on-condition” action. The cost impact figures discussed in AD rulemaking actions represent only the time necessary to perform the specific actions actually required by the AD. We recognize that operators may incur “incidental” costs in addition to “direct” costs. However cost analysis of the AD does not typically include “incidental costs,” such as the time required to gain access and close up, planning time, or time necessitated by other administrative actions. We also do not consider the costs of “on-condition” actions (that is, actions needed to correct an unsafe condition) because, regardless of AD direction, those actions would be required to correct an unsafe condition identified in an airplane and ensure operation of that airplane in an airworthy condition, as required by the Federal Aviation Regulations.

For clarification of the “on-condition” actions, we have revised the “Cost Impact” paragraph of the final rule to show the cost of the “on-condition” inspection and replacement of the actuator cartridge in addition to the “direct costs” of the required inspection of the door-opening actuators for the off-wing slide compartment.

Request To Clarify Certain Wording

One commenter requests to revise certain wording in the “Explanation of Relevant Service Information” paragraphs of the proposed rule and in the body of the proposed rule. The commenter suggests changing “actuators for the off-wing slide compartment door” to “door opening actuators for the off-wing slide compartment” in order to clearly identify that the door-opening actuator is affected instead of the door latch opening actuators. In addition, the commenter suggests changing “actuators of the off-wing slide compartment door” to “actuators for the off-wing slide compartment door” for clarity. The commenter also suggests that the words “additional source” be replaced with “detailed sources” in the paragraphs describing the OEA service bulletin because the OEA service bulletin contains the detailed steps for actuator cartridge inspection after removal from the airplane.

We agree that revising the wording suggested by the commenter would provide clarification of affected actuators and the referenced service bulletin. However, the “Explanation of Relevant Service Information” paragraph is not restated in the final rule so no change is made in this regard. To clarify that the door-opening actuator is affected instead of the door latch opening actuators, we have revised the wording “actuator(s) for the off-wing slide compartment door” in the preamble and body of the final rule to “door-opening actuator(s) for the off-wing slide compartment.” We also revised Note 1 of the final rule to state “* * * as an additional detailed source of service information * * *” to clarify the reference to the OEA service bulletin.

Request for Credit for Previous Accomplishment

One commenter requests credit for previous accomplishment of the inspections per Boeing Special Attention Service Bulletin 767-25-0299, dated January 18, 2001.

We agree that credit should be given for previous accomplishment of the inspections per the Boeing service bulletin. However, we do not need to clarify this in the final rule because credit is already given. Operators are always given credit for work previously performed by means of the phrase in the compliance section of the AD that states, “Compliance: Required as indicated, unless accomplished previously.” Therefore, inspections accomplished prior to the effective date of the final rule per Boeing Special Attention Service Bulletin 767-25-0299, dated January 18, 2001 (listed as the source of service information for the final rule), are acceptable for compliance with the inspections of the final rule. We have not changed the final rule regarding this issue.

Conclusion

After careful review of the available data, including the comments noted above, we have determined that air safety and the public interest require the adoption of the rule with the changes previously described. We have determined that these changes will neither increase the economic burden on any operator nor increase the scope of the AD.

Cost Impact

There are approximately 696 airplanes of the affected design in the worldwide fleet. We estimate that 297 airplanes of U.S. registry will be affected by this AD, that it will take approximately 6 work hours per airplane to accomplish the required inspection of the door-opening actuators for the off-wing slide compartment, and that the average labor rate is $65 per work hour. Based on these figures, the cost impact of the AD on U.S. operators is estimated to be $115,830, or $390 per airplane.

Inspection of the actuator cartridge, if required, will take approximately 1 work hour to accomplish, and the average labor rate is $65 per work hour. Based on these figures, the cost impact of the inspection on U.S. operators is estimated to be $65 per actuator cartridge.

Replacement of the actuator cartridge, if required, will take approximately 1 work hour per airplane to accomplish, and the average labor rate is $65 per work hour. Based on these figures, the cost impact of the replacement on U.S. operators is estimated to be $65 per actuator cartridge.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-16-10 Boeing: Amendment 39-13766. Docket 2002-NM-151-AD.

Applicability: Model 767-200 and -300 series airplanes equipped with off-wing escape slides; certificated in any category.

Compliance: Required as indicated, unless accomplished previously.

To prevent the door-opening actuators for the off-wing slide compartment from not firing, which could cause the door to open improperly and prevent the deployment of the off-wing escape slide, leading to the loss of an evacuation route, accomplish the following:

Inspection and Corrective Action

(a) Within two years after the effective date of this AD, do an inspection of the door-opening actuators for the off-wing slide compartment on the right and left sides of the airplane to determine the actuator cartridge serial number, in accordance with the Accomplishment Instructions of Boeing Special Attention Service Bulletin 767-25-0299, dated January 18, 2001.

(b) If any actuator cartridge having serial numbers 5481 through 5741 inclusive is found during the inspection required by paragraph (a) of this AD: Before further flight, perform the actions specified in paragraphs (b)(1) through (b)(3) of this AD in accordance with the Accomplishment Instructions of Boeing Special Attention Service Bulletin 767-25-0299, dated January 18, 2001.

(1) Remove the door-opening actuator for the off-wing slide compartment.

(2) Perform an inspection of the actuator cartridge for the presence of a clearance hole and corrective actions, if necessary (includes replacing the actuator cartridge with a new actuator cartridge or a serviceable actuator cartridge from a recharge kit).

(3) Install the door-opening actuator for the off-wing slide compartment.

Note 1: Boeing Special Attention Service Bulletin 767-25-0299, dated January 18, 2001, references OEA Aerospace, Inc. Service Bulletin 5262 (02) SB (NC), dated October 2, 2000, as an additional detailed source of service information for performing the inspection of the actuator cartridge and corrective actions.

Parts Installation

(c) As of the effective date of this AD, no person shall install, on any airplane, an actuator for the off-wing escape slide having OEA part number 5262200 cartridge assembly, with actuator cartridge serial numbers 5481 through 5741 inclusive, that does not have a clearance hole between the two firing pins.

Alternative Methods of Compliance

(d) In accordance with 14 CFR 39.19, the Manager, Seattle Aircraft Certification Office, FAA, is authorized to approve alternative methods of compliance for this AD.

Incorporation by Reference

(e) The actions shall be done in accordance with Boeing Special Attention Service Bulletin 767-25-0299, dated January 18, 2001. This incorporation by reference was approved by the Director of the Federal Register in accordance with 5 U.S.C. 552(a) and 1 CFR part 51. Copies may be obtained from Boeing Commercial Airplanes, P.O. Box 3707, Seattle, Washington 98124-2207. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Effective Date

(f) This amendment becomes effective on September 13, 2004.

Issued in Renton, Washington, on July 29, 2004.
Ali Bahrami,
Manager, Transport Airplane Directorate, Aircraft Certification Service.

[FR Doc. 04-17983 Filed 8-6-04; 8:45 am]

BILLING CODE 4910-13-P